NUCLEAR REGULATORY COMMISSION

[NRC-2012-0139]

Regulatory Guide 7.3, Procedures for Picking Up and Receiving Packages of Radioactive Material

AGENCY: Nuclear Regulatory Commission.

ACTION: Notice of withdrawal.

SUMMARY: The U.S. Nuclear Regulatory Commission (NRC or Commission) is withdrawing Regulatory Guide (RG) 7.3, “Procedures for Picking Up and Receiving Packages of Radioactive Material.” The guide is being withdrawn because it is obsolete and new guidance has been included in Revision 1 of RG 7.7, “Administrative Guide for Verifying Compliance with Packaging Requirements for Shipment and Receipt of Radioactive Material” which was issued in March 2012 and announced in the Federal Register (77 FR 18871; March 28, 2012).

ADDRESSES: Please refer to Docket ID NRC-2012-0139 when contacting the NRC about the availability of information on this document. You may access information related to this document, which the NRC possesses and are publicly available, using the following methods:

• NRC's Agencywide Documents Access and Management System (ADAMS): Publicly available documents created or received at the NRC are available online in the NRC Library at http://www.nrc.gov/reading-rm/adams.html. To begin search, select “ADAMS Public Documents” and then select “Begin Web-based ADAMS Search.” For problems with ADAMS, please contact the NRC's Public Document Room (PDR) reference staff at 1-800-397-4209, or 301-415-4737, or by email at PDR.Resource@nrc.gov. The ADAMS accession number for each document referenced in this notice (if that document is available in ADAMS) is provided the first time that a document is referenced. The review for the withdrawal of RG 7.3 is available in ADAMS under Accession No. ML120900195.

• NRC's PDR: You may examine and purchase copies of public documents at the NRC's PDR, Room O1-F21, One White Flint North, 11555 Rockville Pike, Rockville, MD 20852.

The documents are not copyrighted and NRC approval is not required to reproduce them.

FOR FURTHER INFORMATION CONTACT: Bernard White, Office of Nuclear Material Safety and Safeguards, Division of Spent Fuel Storage and Transportation, U.S. Nuclear Regulatory Commission, Washington DC 20555-0001, telephone: 301-492-3303; or by email at Bernard.White@nrc.gov.

SUPPLEMENTARY INFORMATION:

I. Introduction

The NRC is withdrawing RG 7.3 because its guidance has been superseded and is no longer needed. The guide was published in May 1975 to provide guidance on meeting the requirements in Title 10 of the Code of Federal Regulations (10 CFR) 20.205, “Procedures for Picking Up, Receiving, and Opening Packages.” Regulatory Guide 7.3 provided guidance to licensees on making arrangements for receipt, pickup, and monitoring of packages containing radioactive material; and reporting when received packages showed evidence of leakage or excessive radiation levels. The NRC is withdrawing this regulatory guide because the information it contained has been combined into Revision 1 of RG 7.7, “Administrative Guide for Verifying Compliance with Packaging Requirements for Shipment and Receipt of Radioactive Material.” Revision 1 of RG 7.7 was finalized in March 2012 and announced in the Federal Register (77 FR 18871; March 28, 2012).

Regulatory Guide 7.3 was issued as part of an immediately effective rule making by the Atomic Energy Commission (AEC) in 1974. The rule making was issued in response to two incidents that resulted in excessive contamination and radiation exposures from improperly packaged radioactive material. Since these requirements were new to the transportation community, the AEC developed RG 7.3 to provide licensees with guidance and describe a method for meeting the new requirements that the NRC staff found acceptable. In the 37 years since RG 7.3 was issued, the transportation community has gained extensive experience on transporting, receiving and opening packages containing radioactive material. The regulations have been updated several times, but RG has not been kept current.

II. Further Information

The withdrawal of RG 7.3 does not alter any prior or existing licensing commitments based on its use. The guidance provided in this RG is no longer necessary. Regulatory guides may be withdrawn when their guidance no longer provides useful information, or is superseded by technological innovations, congressional actions, or other events.

Regulatory guides are revised for a variety of reasons and the withdrawal of an RG should be thought of as the final revision of the guide. Although an RG is withdrawn, current licensees may continue to use it, and withdrawal does not affect any existing licenses or agreements. Withdrawal of a guide means that the guide should not be used for future NRC licensing activities. However, although a regulatory guide is withdrawn, changes to existing licenses can be accomplished using other regulatory products.

Regulatory guides and publicly available NRC documents are available on line in the NRC Library at: http://www.nrc.gov/reading-rm/doc-collections/. The documents can also be viewed online for free or printed for a fee in the NRC's PDR at 11555 Rockville Pike, Rockville, MD; the mailing address is USNRC PDR, Washington, DC 20555-0001; telephone: 301-415-4737, or 1-800-397-4209; fax 301-415-3548; or by email to pdr.resource@nrc.gov. Regulatory guides are not copyrighted, and NRC approval is not required to reproduce them.

Dated at Rockville, Maryland, this 7th day of June, 2012.
For the Nuclear Regulatory Commission.
Thomas H. Boyce,
Branch Chief, Regulatory Guide Development Branch, Division of Engineering, Office of Nuclear Regulatory Research.

[FR Doc. 2012-14680 Filed 6-14-12; 8:45 am]

BILLING CODE 7590-01-P